DEPARTMENT OF TRANSPORTATION

Federal Transit Administration

Enhanced Mobility of Seniors and Individuals With Disabilities: Grant Program Guidance, Final Circular

AGENCY: Federal Transit Administration (FTA), Department of Transportation (DOT).

ACTION: Notice of availability of final circular and response to comments.

SUMMARY: The Federal Transit Administration (FTA) is issuing an updated Enhanced Mobility for Seniors and Individuals with Disabilities Program Guidance (Section 5310) Circular (C. 9070.1H). The updated circular incorporates changes in the law since the previous circular update and does not include any changes in policy.

DATES: The applicable date of this circular is November 1, 2024.

FOR FURTHER INFORMATION CONTACT: For circular questions, Destiny Buchanan, Section 5310 Program Manager, Office of Transit Programs, Federal Transit Administration, 1200 New Jersey Ave. SE, Washington, DC 20590 phone, (202) 493-8018 or email, destiny.buchanan@dot.gov. For legal questions, Bonnie Graves, Office of Chief Counsel, phone, (202) 366-0944, or email, Bonnie.Graves@dot.gov.

SUPPLEMENTARY INFORMATION:

Table of Contents

I. Overview

II. Chapter-by-Chapter Analysis

A. Chapter I—Introduction and Background

B. Chapter II—Program Overview

C. Chapter III—General Program Information

D. Chapter IV—Eligible Projects and Requirements

E. Chapter V—Planning and Program Development

F. Chapter VI—Program Management and Administrative Requirements

G. Chapter VII—State and Program Management Plans

H. Appendices

I. Overview

FTA is updating its Circular C 9070, last revised in 2014, to incorporate changes in the law since the previous revision and reformat for consistency with other FTA program and award management circulars. This circular provides guidance to recipients of funds under the Enhanced Mobility for Seniors and Individuals with Disabilities Program, often referred to as the Section 5310 program. This notice provides a summary of changes to Circular 9070, and this update (C 9070.1H) will supersede the previous version (C 9070.1G).

Since 2014, Congress has made only one substantive statutory change to 49 U.S.C. 5310. The Fixing America's Surface Transportation Act (FAST Act) (Pub. L. 114-94) made States and local governmental entities that operate public transportation service eligible direct recipients. FTA communicated this change at the time of implementation in 2015, and the updated circular now incorporates this change. FTA has incorporated other cross-cutting changes to 49 U.S.C. Chapter 53 made by the FAST Act and the Infrastructure Investment and Jobs Act (Pub. L. 117-58) into this circular for reference, for example, disposition of assets in 49 U.S.C. 5334(h) is addressed in Chapter VI. In addition to statutory changes, the Office of Management and Budget (OMB) issued Uniform Administrative Requirements, Cost Principles, and Audit Requirements for Federal Awards (Uniform Guidance) in December, 2013 (78 FR 78590), which superseded the DOT's Common Grant Rule, codified at the now-rescinded 49 CFR parts 18 and 19. Due to the timing of the previous circular update and the publication of the Uniform Guidance, the prior version (C 9070.1G) continued to reference 49 CFR parts 18 and 19. FTA has updated these references, including definitions, in C 9070.1H.

In addition, FTA has made changes to the content and format of the circular for consistency with changes in other program circulars. For example, FTA has removed Chapter VIII, “Other Provisions” and included the content of that Chapter in the proposed Award Management Requirements Circular (C 5010.1F).

Section 5334(k) of title 49, U.S.C., requires FTA to follow applicable rulemaking procedures before issuing a statement that imposes a “binding obligation” on FTA recipients. The term “binding obligation” means a substantive policy statement, rule, or guidance document issued by FTA that grants rights, imposes obligations, produces significant effects on private interests, or effects a significant change in existing policy. The updated circular is largely a restatement and reorganization of the prior version and does not impose any new binding obligations on recipients. Therefore, FTA is issuing this circular update without notice and comment.

II. Chapter-by-Chapter Analysis

A. Chapter I—Introduction and Background

Chapter I of C 9070.1H is substantially similar to Chapter I of C 9070.1G. The Chapter includes information about FTA, the most recent authorizing legislation, and definitions. FTA has updated pertinent definitions to be consistent with the Uniform Guidance, Chapter 53 of title 49, and other circulars.

B. Chapter II—Program Overview

Chapter II of C 9070.1H is similar to Chapter II of C 9070.1G. As with C 9070.1G, the updated circular contains information on statutory authority, program goals and measures, designated recipient and FTA role in program administration, and relationship to other programs. Information related to recipient designation was moved from Chapter III to Chapter II. The goals and measures for the Section 5310 program have not changed. FTA has updated the relationship to other programs section to reflect changes in the law, including the removal of the repealed Job Access/Reverse Commute and New Freedom programs.

C. Chapter III—General Program Information

As with Chapter III of C 9070.1G, Chapter III of C 9070.1H contains the following information: apportionment of funds, funds availability, transfer of apportionments, consolidation of grants to insular areas, eligible direct recipients and subrecipients, private taxi operators as subrecipients, recipient administrative expenses, and local share of project costs. The content has been reordered but remains substantially similar to the content in C 9070.1G. As stated in the summary of Chapter II, FTA has moved information related to designated recipients to Chapter II. In addition, FTA has moved information related to eligible activities to Chapter IV.

FTA has clarified in the updated circular that local match is waived for insular areas. FTA has updated the section pertaining to eligible direct recipients to be consistent with the change to 49 U.S.C. 5310. Further, FTA has included Transportation Network Companies (TNCs) in the section related to private taxi operators and their eligibility as subrecipients and contractors. FTA has historically treated TNCs the same as taxis, given they both provide on-demand, exclusive ride service, primarily in automobiles. As with taxi operators, depending on the nature of the service—exclusive or shared ride—TNCs may be contractors or subrecipients.

D. Chapter IV—Eligible Projects and Requirements

Chapter IV in Circular 9070.1G was titled “Program Development.” FTA has moved much of the information found in Chapter IV of C 9070.1G to Chapter V of C 9070.1H or to the proposed C 5010.1F (see, 89 FR 11334). For example, FTA removed language on certifications and assurances and pre-award authority and included that information in Chapter III of the proposed C 5010.1F. The renamed Chapter IV now includes only information related to eligible projects, including capital reserve accounts. Eligible activities remain the same as in C 9070.1G.

E. Chapter V—Planning and Program Development

The updated circular consolidates Chapters IV and V of C 9070.1G into one renamed chapter. The new Chapter V includes information related to coordination and planning requirements, development of the program of projects, development of the public transit-human services coordinated transportation plan, relationship of the coordinated plan to other planning processes, and labor protections. FTA has updated the sections on coordinated planning to reflect repeal of the JARC and New Freedom programs, and to reflect that the requirement to develop a coordinated plan remains the same but is no longer new. While FTA has made clarifying edits to the text, the language remains substantially similar to that found in C 9070.1G.

F. Chapter VI—Program Management and Administrative Requirements

Chapter VI in the new C 9070.1H contains much of the same information as that found in Chapter VI of C 9070.1G. Included in the new chapter are the following topics: program administrative requirements and other provisions, equipment management, vehicle use, leasing and title to vehicles, satisfactory continuing control requirements, reporting requirements, management plan, and drug and alcohol testing requirements. FTA has updated the section on equipment management to reflect a change in 49 U.S.C. 5334(h). As stated above, FTA has moved information related to capital reserve accounts to Chapter IV. Information related to Federal Funding Accountability and Transparency Act (FFATA) (Pub. L. 109-282) requirements is located in the program of projects information in Chapter V. Other sections in Chapter VI of C 9070.1G have been removed and can be found in the updated C 5010.1F. Those sections include procurement, debarment and suspension, financial management, FTA's electronic grant management system, system for award management (SAM) requirements, Electronic Clearing House Operation (ECHO) requirements, allowable costs, closeout, audit, real property, and construction management and oversight.

G. Chapter VII—State and Program Management Plans

Chapter VII of the updated circular is substantially similar to Chapter VII of C 9070.1G, with minor clarifying edits. As stated above, FTA has removed Chapter VIII, Other Provisions from the updated circular and pertinent information can now be found in the updated C 5010.1F. Drug and alcohol requirements, formerly in Chapter VIII, have been moved to Chapter VI of this circular.

H. Appendices

FTA has removed many of the appendices found in C 9070.1G, as the information is available in other circulars and resources and can be easily referenced. However, FTA has retained Appendix B, Sample Section 5310 Program of Projects, which is renamed as Appendix A. FTA has also retained Appendix D, Relationship Between Coordinated Planning and Metropolitan and Statewide Planning (Table), but is renamed as Appendix B.

Veronica Vanterpool,
Deputy Administrator.

[FR Doc. 2024-22162 Filed 9-26-24; 8:45 am]

BILLING CODE 4910-57-P